DEPARTMENT OF COMMERCE

National Oceanic and Atmospheric Administration

[I.D. 111406D]

South Atlantic Fishery Management Council; Public Meetings

AGENCY: National Marine Fisheries Service (NMFS), National Oceanic and Atmospheric Administration (NOAA), Commerce.

ACTION: Notice of public meetings.

SUMMARY: The South Atlantic Fishery Management Council (Council) will hold a joint meeting of its Scientific and Statistical Committee (SSC), Snapper Grouper Advisory Panel, Snapper Grouper Committee, Controlled Access Committee, a joint meeting of its Habitat Committee and Ecosystem-Based Management Committee, Southeastern Data Assessment and Review (SEDAR) Committee, a joint meeting of its Executive Committee and Finance Committee, a joint meeting of its Law Enforcement Advisory Panel and Committee, King and Spanish Mackerel Committee, Economics Committee, Advisory Panel Selection Committee (Closed Session), Personnel Committee (Closed Session), and a meeting of the full Council. In addition, the Council will also hold a public scoping meeting regarding gag grouper management and a general public input session.

DATES: The meeting will be held in December 2006. See SUPPLEMENTARY INFORMATION for specific dates and times.

ADDRESSES: The meeting will be held at the Sheraton Atlantic Beach Oceanfront Hotel, 2717 W. Fort Macon Road, Atlantic Beach, NC 28512; telephone: (1-800) 624-8875 or (252) 240-1155, fax: (252) 240-1452. Copies of documents are available from Kim Iverson, Public Information Officer, South Atlantic Fishery Management Council, 4055 Faber Place Drive, Suite 201, North Charleston, SC 29405.

FOR FURTHER INFORMATION CONTACT: Kim Iverson, Public Information Officer; telephone: (843) 571-4366 or toll free at (866) SAFMC-10; fax: (843) 769-4520; e-mail: kim.iverson@safmc.net.

SUPPLEMENTARY INFORMATION:

Meeting Dates

1. Scientific and Statistical Committee Meeting: December 3, 2006, 1 p.m. until 6 p.m., December 4, 2006, from 8:30 a.m. until 6 p.m., and December 5, 2006, from 8:30 a.m. until 3 p.m.

The Scientific and Statistical Committee (SSC) meetings will be held concurrently with the Council committee meetings.

December 3, 2006

1 p.m.-4 p.m., The SSC will meet to receive an overview and presentations regarding the recent SEDAR assessment for gag grouper.

4 p.m.-6 p.m., The SSC Biological Subcommittee and SSC Socioeconomic Subcommittee will meet concurrently to continue discussion of the gag grouper assessment and develop recommendations.

December 4, 2006

8:30 a.m.-12 noon, The SSC will meet and receive reports and updates on: Amendment 14 to the Snapper Grouper Fishery Management Plan (FMP) concerning marine protected areas (MPA), and Amendment 15 to the Snapper Grouper FMP regarding rebuilding programs for snowy grouper, black sea bass and red porgy, sale of recreationally caught species in the snapper grouper management complex, permit issues (transferability and renewal times), size limits for queen snapper and silk snapper, and changes to the fishing year for golden tilefish.

In addition, the SSC will review the National MPA Framework, Oculina Evaluation Report, Amendment 18 to the Coastal Migratory Pelagic (mackerel) FMP regarding changes in current total allowable catches (TACs) for king and Spanish mackerel, Amendment 19 to the Coastal Migratory Pelagic FMP concerning options for mackerel management, including separating the current joint FMP from the Gulf of Mexico Fishery Management Council, boundaries, and permit issues if such a separation were to occur. The SSC will also receive an update on the development of the Council's Fishery Ecosystem Plan (FEP) and the FEP Comprehensive Amendment.

1:30 p.m.-2 p.m., The SSC will provide a presentation of findings on the gag grouper assessment to the Snapper Grouper Advisory Panel.

2 p.m.-5 p.m., The SSC Biological Subcommittee and the Socioeconomic Subcommittee will meet concurrently to continue discussion of Amendments 14 and 15 to the Snapper Grouper FMP and develop recommendations.

5 p.m.-6 p.m., The full SSC will meet to receive reports from the subcommittees and to develop recommendations.

December 4, 2006, 6:30 p.m.—The Council will hold a Public Scoping Session to receive input regarding the management of gag grouper.

December 5, 2006

8:30 a.m. until 9:30 a.m., The SSC will provide a presentation of findings and recommendations on the gag grouper assessment and Amendments 14 and 15 to the Snapper Grouper FMP to the Snapper Grouper Committee.

9:30 a.m.-12 noon, The Biological Subcommittee and Socioeconomic Subcommittee will meet concurrently to discuss Amendments 18 and 19 to the Coastal Migratory Pelagics FMP and develop recommendations.

1:30 p.m. until 3 p.m., The full SSC will meet to receive the subcommittee reports. In addition, the SSC will review the SEDAR Research Report, review SSC policy, and hold elections for Chairman and Vice-Chairman.

2. Snapper Grouper Advisory Panel Meeting: December 4, 2006, 1:30 p.m. until 6 p.m.

The Snapper Grouper Advisory Panel (AP) will review and develop recommendations on the following: the SEDAR assessment for gag grouper, Amendment 14 to the Snapper Grouper FMP, the Oculina Evaluation Plan, and the National MPA Framework. The AP will receive a presentation from the SSC regarding its findings and recommendations for the SEDAR gag grouper assessment. The AP will also review Amendment 15 to the Snapper Grouper FMP.

3. Snapper Grouper Committee Meeting: December 5, 2006, 8:30 a.m. until 12 noon

The Snapper Grouper Committee will receive an SSC presentation of findings and recommendations on the SEDAR gag grouper assessment, and Amendments 14 and 15 to the Snapper Grouper FMP. The Committee will also receive a presentation on recommendations from the Snapper Grouper AP, then review and develop recommendations to the Council regarding the SEDAR gag grouper assessment. The Committee will receive a report on a Delphi socioeconomic study regarding Amendment 14 to the Snapper Grouper FMP, then review Amendments 14 and 15 to the Snapper Grouper FMP and provide direction to staff. The Committee will also receive a presentation on potential Individual Fishery Quota (IFQ) and Individual Transferable Quota (ITQ) programs as possible alternatives for Amendment 16 to the Snapper Grouper FMP, and develop recommendations. The Committee will also discuss the Oculina Evaluation plan and develop comments.

4. Controlled Access Committee Meeting: December 5, 2006, 1:30 p.m. until 2:30 p.m.

The Controlled Access Committee will discuss development of and ITQ/IFQ program for the snapper grouper fishery.

5. Joint Habitat and Ecosystem-Based Management Committees Meeting: December 5, 2006, 2:30 p.m. until 4:30 p.m.

The Habitat Committee and Ecosystem-Based Management Committee will meet jointly to receive presentations and updates on: policy statements, status of the Deepwater Coral Research Plan, status of and presentations on the Fishery Ecosystem Plan (FEP), and the FEP Comprehensive Amendment. The Committees will make recommendations as appropriate.

December 5, 2006, 4:30 p.m.—The Council will hold a Public Input Session. Members of the public are invited to address the Council on items listed on the agenda or any other fishery issue that falls under the jurisdiction of the Council.

6. SEDAR Committee Meeting: December 6, 2006, 8:30 a.m. until 10:30 a.m.

The SEDAR Committee will receive an update on Committee activities and develop recommendations regarding the SEDAR program.

7. Joint Executive/Finance Committees Meeting, December 6, 2006, 10:30 a.m. until 12 noon

The Executive Committee will meet jointly with the Finance Committee and will receive updates on budgets, establish Calendar Year (CY) 2007 timelines regarding FMP, amendment, and framework development, and develop the CY 2007 budget.

8. Joint Law Enforcement Advisory Panel and Committee Meeting, December 6, 2006, 1:30 p.m. until 6 p.m.

The Law Enforcement AP and Committee will meet jointly to develop management recommendations for gag grouper, review and develop comments for Amendments 14 and 15 to the Snapper Grouper FMP, the National MPA Framework, and the Oculina Evaluation plan.

9. King and Spanish Mackerel Committee Meeting, December 7, 2006, 8:30 a.m. until 10:30 a.m.

The Mackerel Committee will receive reviews and SSC recommendations regarding Amendments 18 and 19 to the Coastal Migratory Pelagics FMP and develop recommendations to the Council as appropriate.

10. Economics Committee Meeting, December 7, 2006, 10:30 a.m. until 12 noon

As a newly formed committee, the Economics Committee will meet to discuss its organizational function.

11. Advisory Panel Selection Committee Meeting, December 7, 2006, 1:30 p.m. until 2:30 p.m.(CLOSED SESSION)

The Advisory Panel Selection Committee will review advisory panel applications and develop recommendations for Council consideration.

12. Personnel Committee Meeting, December 7, 2006, 2:30 p.m. until 4 p.m. (CLOSED SESSION)

The Personnel Committee will meet in closed session to discuss Council personnel matters.

Council Session: December 7, 2006, 4 p.m. until 6:15 p.m. and December 8, 2006, 8:30 a.m. until 12 noon

Council Session: December 7, 2006, 4 p.m. until 6:15 p.m.

4 p.m.-4:15 p.m., The Council will call the meeting to order, adopt the agenda, and approve the September 2006 meeting minutes.

4:15 p.m.-4:45 p.m., The Council will receive a report from the Scientific and Statistical Committee.

4:45 p.m.-5 p.m., The Council will hear a report from the Snapper Grouper Committee and take action as appropriate.

5 p.m.-5:15 p.m., The Council will hear a report from the Controlled Access Committee and take action as appropriate.

5:15 p.m.-5:30 p.m., The Council will hear a report from the joint meeting of the Habitat Committee and Ecosystem-Based Management Committee and take action as appropriate.

5:30 p.m.-5:45 p.m., The Council will hear a report from the SEDAR Committee and take action as appropriate.

5:45 p.m.-6 p.m., The Council will hear a report from the joint meeting of the Executive Committee and Finance Committes and take action as appropriate.

6 p.m.-6:15 p.m., The Council will hear a report from the joint meeting of the Law Enforcement Advisory Panel and Committee and take action as appropriate.

Council Session: December 8, 2006, 8 a.m.-12 noon.

8 a.m.-9 a.m., The Council will receive a NOAA General Counsel briefing on litigation issues (CLOSED SESSION).

9 a.m.-9:30 a.m., The Council will receive a report from the Mackerel Committee and take action as appropriate.

9:30 a.m.-9:45 a.m., The Council will receive a report from the Economics Committee and take action as appropriate.

9:45 a.m.-10 a.m., The Council will receive a report from the Advisory Panel Selection Committee and take action as appropriate.

10 a.m.-10:15 a.m., The Council will receive a report on the Council Chairmen/NOAA Fisheries Leadership meeting.

10:15 a.m.-12 noon, The Council will review requests for Experimental Fishing Permits as necessary, receive status reports from NOAA Fisheries' Southeast Regional Office, NOAA Fisheries' Southeast Fisheries Science Center, agency and liaison reports, and discuss other business including upcoming meetings.

Documents regarding these issues are available from the Council office (see ADDRESSES).

Although non-emergency issues not contained in this agenda may come before this Council for discussion, those issues may not be the subjects of formal Council action during this meeting. Council action will be restricted to those issues specifically listed in this notice and any issues arising after publication of this notice that require emergency action under section 305 (c) of the Magnuson-Stevens Act, provided the public has been notified of the Council's intent to take final action to address the emergency.

Except for advertised (scheduled) public hearings and public comment, the times and sequence specified on this agenda are subject to change.

Special Accommodations

These meetings are physically accessible to people with disabilities. Requests for sign language interpretation or other auxiliary aids should be directed to the Council office (see ADDRESSES) by December 1, 2006.

Dated: November 14, 2006.
Tracey L. Thompson,
Acting Director, Office of Sustainable Fisheries, National Marine Fisheries Service.

[FR Doc. E6-19478 Filed 11-16-06; 8:45 am]

BILLING CODE 3510-22-S